DEPARTMENT OF COMMERCE

International Trade Administration

[A-570-965]

Drill Pipe from the People's Republic of China: Postponement of Preliminary Determination of Antidumping Duty Investigation

AGENCY: Import Administration, International Trade Administration, Department of Commerce.

EFFECTIVE DATE: June 3, 2010.

FOR FURTHER INFORMATION CONTACT: Matthew Renkey, Toni Dach, or Susan Pulongbarit AD/CVD Operations, Office 9, Import Administration, International Trade Administration, U.S. Department of Commerce, 14th Street and Constitution Avenue, NW, Washington, DC 20230; telephone: (202) 482-2312, (202) 482-1655 and (202) 482-4031, respectively.

SUPPLEMENTARY INFORMATION:

Postponement of Preliminary Determination

On January 28, 2010, the Department of Commerce (“the Department”) published in the Federal Register the initiation of the antidumping investigation on drill pipe from the People's Republic of China (PRC). See Drill Pipe from the People's Republic of China: Initiation of Antidumping Duty Investigations, 75 FR 4531 (January 28, 2010) (“Initiation Notice”).

The Initiation Notice stated that the Department would issue its preliminary determination for this investigation no later than 140 days after the date of issuance of the initiation, in accordance with section 733(b)(1)(A) of the Tariff Act of 1930, as amended (“the Act”).¹

¹ Due to the extended closure of the Government between February 5 and 11, 2010, all deadlines for active cases were tolled by one calendar week. See Memorandum From Ronald Lorentzen, DAS for Import Administration, Regarding Tolling of Administrative Deadlines As a Result of the Government Closure During the Recent Snowstorm, available at http://ia.ita.doc.gov/download/administrative-deadline-tolling-memo-021210.pdf. Accordingly, the current deadline for the Department's preliminary determination was tolled to June 16, 2010.

On May 14, 2010, Petitioners, VAM Drilling USA, Inc., Texas Steel Conversion, Inc., Rotary Drilling Tools, TMK IPSCO, and the United Steel, Paper and Forestry, Rubber, Manufacturing, Energy, Allied Industrial and Service Workers International Union, and AFL-CIO-CLC, requested a 50-day postponement of the preliminary determination pursuant to 19 CFR 351.205(b)(2) and (e). Petitioners requested a postponement of the preliminary determination in order to allow more time to collect and analyze information for the preliminary determination.

For the reasons identified by Petitioners, and because there are no compelling reasons to deny the request, the Department is postponing the deadline for the preliminary determination under section 733(c)(1)(A) of the Act by 50 days from the current deadline of June 16, 2010, to August 5, 2010. The deadline for the final determination will continue to be 75 days after the date of the preliminary determination, unless extended.

This notice is issued and published pursuant to section 733(c)(2) of the Act and 19 CFR 351.205(f)(1).

Dated: May 24, 2010.
Ronald K. Lorentzen,
Deputy Assistant Secretary for Import Administration.

[FR Doc. 2010-13373 Filed 6-2-10; 8:45 am]

BILLING CODE 3510-DS-S